DEPARTMENT OF JUSTICE

Notice of Lodging of Proposed Joint Stipulation and Order Modifying the Consent Decree With Central Sprinkler Corporation Under the Comprehensive Environmental Response, Compensation, and Liability Act (CERCLA)

On January 10, 2022, the Department of Justice lodged a proposed Joint Stipulation and Order Modifying the Consent Decree with Central Sprinkler Corporation (“CD Modification”), with the United States District Court for the Eastern District of Pennsylvania in the lawsuit entitled United States v. Parker Hannifin Corporation and Central Sprinkler Corporation, Civil Action No. 2:05-cv-1351.

The CD Modification modifies a 2005 Consent Decree entered into between the United States and Central Sprinkler Corporation (“Central Sprinkler”), relating to Operable Unit 3 (OU3) at the North Penn Area 6 Superfund Site in Montgomery County, Pennsylvania (the “Site”). The 2005 Consent Decree addresses one of the source locations in OU3: Property located at 451 North Cannon Avenue, Lansdale, Pennsylvania (the “Central Sprinkler Parcel”). Among other provisions, the 2005 Consent Decree requires Central Sprinkler to implement a remedy selected for the Central Sprinkler Parcel in a 2000 Record of Decision (ROD). Since then, EPA has issued an Amendment to the ROD as it relates to the Central Sprinkler Parcel. In addition, Central Sprinkler has completed soil remediation obligations at Operable Unit 2 (OU2).

The proposed CD Modification: (i) Requires implementation of the OU3 remedy as amended by the ROD Amendment and makes related revisions; (ii) updates notice, reporting, and payment requirements; (iii) updates access and use requirements; (iv) adds Central Sprinkler's corporate successor as a defendant; and (v) provides Central Sprinkler and its successor a Site-wide covenant not to sue based on completion of soil remediation actions at OU2.

The publication of this notice opens a period for public comment on the proposed CD Modification. Comments should be addressed to the Assistant Attorney General, Environment and Natural Resources Division, and should refer to United States v. Parker Hannifin Corporation and Central Sprinkler Corporation, D.J. Ref. No. 90-11-2-06024/10. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the CD Modification may be examined and downloaded at this Justice Department website: https://www.justice.gov/enrd/consent-decrees. We will provide a paper copy of the CD Modification upon written request and payment of reproduction costs. Please mail your request and payment to: Consent Decree Library, U.S. DOJ—ENRD, P.O. Box 7611, Washington, DC 20044-7611.

Please enclose a check or money order for $24.25 (25 cents per page reproduction cost) payable to the United States Treasury. For a paper copy without the exhibits and signature pages, the cost is $6.75.

Jeffrey Sands,
Assistant Section Chief, Environmental Enforcement Section, Environment and Natural Resources Division.

[FR Doc. 2022-00645 Filed 1-13-22; 8:45 am]

BILLING CODE 4410-15-P